DEPARTMENT OF COMMERCE

International Trade Administration

[A-570-866]

Certain Folding Gift Boxes From the People's Republic of China: Final Results of the Expedited Sunset Review of the Antidumping Duty Order

AGENCY: Enforcement and Compliance, International Trade Administration, Department of Commerce.

SUMMARY: As a result of this expedited sunset review, the U.S. Department of Commerce (Commerce) finds that revocation of the antidumping duty (AD) order on certain folding gift boxes (gift boxes) from the People's Republic of China (China) would be likely to lead to continuation or recurrence of dumping at the level indicated in the “Final Results of Sunset Review” section of this notice.

DATES: Applicable October 5, 2023.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On June 1, 2023, Commerce published the Initiation Notice of the sunset review of the order ¹ in the Federal Register pursuant to section 751(c) of the Tariff Act of 1930, as amended (the Act).² In accordance with 19 CFR 351.218(d)(1)(i) and (ii), Commerce received a notice of intent to participate from Hallmark Cards, Inc. (Hallmark) within 15 days after the date of publication of the Initiation Notice.³ Hallmark claimed interested party status under section 771(9)(C) of the Act as a producer of a domestic like product in the United States.⁴ Commerce received an adequate substantive response to the Initiation Notice from Hallmark within the 30-day period specified in 19 CFR 351.218(d)(3)(i).⁵ We did not receive substantive responses from any other interested parties. On June 23, 2023, Commerce notified the U.S. International Trade Commission (ITC) that it did not receive an adequate substantive response from other interested parties.⁶ As a result, in accordance with section 751(c)(3)(B) of the Act and 19 CFR 351.218(e)(1)(ii)(C)(2), Commerce conducted expedited, i.e., 120-day sunset reviews of the Orders.

¹ See Notice of Antidumping Duty Order: Certain Folding Gift Boxes from the People's Republic of China, 67 FR 864 (January 8, 2002) (Order).

² See Initiation of Five-Year (Sunset) Reviews, 88 FR 35832 (June 1, 2023) (Initiation Notice).

³ See Hallmark's Letter, “Notice of Intent to Participate,” dated June 16, 2023.

⁴ Id.

⁵ See Hallmark's Letter, “Hallmark's Substantive Response to Notice of Initiation,” dated July 3, 2023.

⁶ See Commerce's Letter, “Sunset Reviews Initiated on June 1, 2023,” dated June 23, 2023.

Scope of the Order

The products covered by the Order are certain folding gift boxes. Folding gift boxes are a type of folding or knock-down carton manufactured from paper or paperboard. Imports of the subject merchandise are classified under Harmonized Tariff Schedules of the United States (HTSUS) subheadings 4819.20.0040 and 4819.50.4060. These subheadings also cover products that are outside the scope of the Order. Furthermore, although the HTSUS subheadings are provided for convenience and customs purposes, our written description of the scope of the Order is dispositive. For a full description of the scope, see the Issues and Decision Memorandum.⁷

⁷ See Memorandum, “Issues and Decision Memorandum for the Final Results of the Expedited Fourth Sunset Review of the Antidumping Duty Order on Certain Folding Gift Boxes from the People's Republic of China,” dated concurrently with, and hereby adopted by, this notice (Issues and Decision Memorandum).

Analysis of Comments Received

All issues raised in this sunset review are addressed in the Issues and Decision Memorandum, including the likelihood of continuation or recurrence of dumping and the magnitude of the margins of dumping likely to prevail if the Order was revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(c)(1) and (3) of the Act, Commerce determines that revocation of the Order would be likely to lead to continuation or recurrence of dumping and that the magnitude of the margins of dumping likely to prevail would be up to a rate of 164.75 percent.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.221(c)(5)(ii).

Dated: September 28, 2023.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of Margin of Dumping Likely to Prevail

VII. Final Results of Review

VIII. Recommendation

[FR Doc. 2023-22128 Filed 10-4-23; 8:45 am]

BILLING CODE 3510-DS-P